DEPARTMENT OF DEFENSE

Department of the Army

[Docket ID: USA-2023-HQ-0017]

Proposed Collection; Comment Request

AGENCY: U.S. Army Corps of Engineers (USACE), Department of the Army, Department of Defense (DoD).

ACTION: 60-Day information collection notice.

SUMMARY: In compliance with the Paperwork Reduction Act of 1995, the USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters U.S. Army Corps of Engineers, 441 G St. NW, Washington, DC 20314-0001, ATTN: Ms. Mindy Simmons, or call 202-761-4127.

SUPPLEMENTARY INFORMATION:

Title; Associated Form; and OMB Number: Estuary Habitat Restoration Program Inventory; OMB Control Number: 0710-ESTU.

Needs and Uses: The Estuary Restoration Act of 2000 (ERA) established an Estuary Habitat Restoration Program (EHRP) that provides funding to restoration projects. Funded projects are required to complete the collection tool so project information (e.g., location, habitat type, goals, status, monitoring information) can be included in the EHRP database mandated by the ERA. The benefit of data collection is to document the restoration actions implemented, as well as the monitoring results to understand the success of each project. EHRP project information will be submitted by habitat restoration project managers and will be accessible to the public via internet. The collection method includes paper or electronic forms, not web-based data entry.

This is not a new information collection, but a reinstatement of the same information collection that was owned by the National Oceanic and Atmospheric Administration and approved under OMB Control Number 0648-0479. It has been determined that responsibility for Paperwork Reduction Act (PRA) compliance should be transferred to USACE because it oversees all projects currently funded through the ERA. All anticipated future projects will be managed by USACE as well. No information will be collected until this information collection request is approved by OMB, bringing the Estuary Habitat Restoration Program Inventory back into compliance with the PRA.

Affected Public: Non-profit institutions; State, local, or tribal government.

Annual Burden Hours: 15.

Number of Respondents: 10.

Responses per Respondent: 1.

Annual Responses: 10.

Average Burden per Response: 1.5 hours.

Frequency: Annually.

Dated: December 13, 2023.
Aaron T. Siegel,
Alternate OSD Federal Register Liaison Officer, Department of Defense.

[FR Doc. 2023-27728 Filed 12-15-23; 8:45 am]

BILLING CODE 6001-FR-P